NATIONAL SCIENCE FOUNDATION

Committee on Equal Opportunity in Science and Engineering Solicitation of Recommendations for Membership

SUMMARY: The National Science Foundation (NSF) solicits recommendations for membership on the Committee on Equal Opportunities in Science and Engineering (CEOSE) (1173). Recommendations should consist of the name of the recommended individual, the individual's curriculum vita, and an expression of the recommended individual's interest, and include the following contact information: recommended individual's address, telephone number, FAX number, and e-mail address. Self recommendations are accepted.

DATES: Recommendations must be received no later than March 14, 2011.

ADDRESSES: Recommendations should be sent to Dr. Margaret Tolbert, CEOSE Executive Liaison at National Science Foundation, Room 935, 4201 Wilson Blvd., Arlington, VA 22230 or to mtolbert@nsf.gov.

FOR FURTHER INFORMATION CONTACT: Please see http://www.nsf.gov/od/oia/activities/ceose/index.jsp. Call the CEOSE Executive Liaison at 703-292-8040, or send an e-mail message to mtolbert@nsf.gov.

SUPPLEMENTARY INFORMATION: Members are appointed by the Director of the NSF to serve on the Committee for a three year term. With appropriate justification, members may be reappointed for only one additional three year term (42 U.S.C. 1885c). CEOSE provides advice to NSF on the implementation of the provisions of the Science and Engineering Equal Opportunities Act (42 U.S.C. 1885), and on NSF matters relating to opportunities for the participation in, and advancement of, women, minorities, and persons with disabilities in education, training, and science and engineering research programs (42 U.S.C. 1885c).

NSF is dedicated to the support of education and fundamental research in science, technology, engineering, and mathematics (STEM) disciplines. NSF's mission is to ensure that the United States maintains leadership in scientific discovery and the development of new technologies. Broadening participation in STEM is a vital aspect of the NSF mission, and CEOSE recommendations assist NSF in fulfilling this aspect of its mission.

Recommendations for membership are encouraged from the STEM community, including professional societies, academe, industry, and government. Recommended individuals should possess expertise in a disciplinary or interdisciplinary field(s) supported by NSF, as well as knowledge and experience related to broadening participation by underrepresented groups (women, underrepresented minorities, and persons with disabilities) in STEM. NSF seeks qualified individuals for current and future vacancies. Recommendations will be kept on file for 12 months from the recommendation deadline stated above.

Dated: January 18, 2011.
Susanne Bolton,
Committee Management Officer.

[FR Doc. 2011-1272 Filed 1-21-11; 8:45 am]

BILLING CODE 7555-01-P